DEPARTMENT OF HEALTH AND HUMAN SERVICES

Centers for Disease Control and Prevention

[30DAY-23-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Projects

1. Telephone Survey Measuring HIV/STD Risk Behavior Using Standard Methodology—New—The Behavioral Surveillance Working Group, coordinated by the National Center for HIV, STD and Tuberculosis Prevention (NCHSTP). Proposes to conduct testing of a set of survey questions intended to obtain measures of risk behaviors for Human Immunodeficiency Virus (HIV) and Sexually Transmitted Diseases (STDs). Knowledge about the level of HIV risk behaviors in populations is essential for effective HIV prevention programs. Currently, survey-based assessment of these behaviors depends on a range of survey questions that differ across survey, and that are difficult to compare and to reconcile. Therefore, CDC has developed a draft set of items to be proposed as standard survey questions on the topics of sexual behavior, HIV testing, drug use, and other behaviors related to risk of contracting HIV and/or STDs. As part of this effort, CDC will sponsor a telephone-based pretest of 150 households, selected randomly from within an urban area, in order to test these questions.

Further, because some of the survey questions are private and potentially sensitive, the project will entail the testing of a survey administration mode: Telephone-based audio computer-assisted self-interview (T-ACASI), in which a computer will be used to administer the most sensitive questions, and in which the surveyed individual enters responses directly onto the telephone keypad. This procedure eliminates the need for communication of sensitive questions from the interviewer to the respondent, as well as the need for respondents to answer the questions verbally. In order to test the effectiveness of this procedures, half of the interviews will be conducted using the T-ACASI procedure for the most sensitive questions, and half using standard, interviewer-based administration of all questions. Data analysis will rely on an assessment of the response rate under each mode, and on the nature of the data obtained to the sensitive questions.

Information and data obtained from this evaluation will help direct future surveys by determining whether it is feasible to attempt to administer these standard risk questions using a telephone survey and whether a T-ACASI-based procedure represents a technological innovation that will positively contribute to such an effort, through improvements in data quality.

The total cost to respondents is $505.60. The Annual Burden hours are 63.2.

Respondents | Number of respondents | Number of responses/respondent | Avg. burden per response (in hours)
Screening | 660 | 1 | 0.02
Interview | 150 | 1 | 0.33

Dated: April 26, 2000.
Charles W. Gollmar,
Acting Associate Director for Policy, Planning and Evaluation Centers for Disease Control and Prevention (CDC).

[FR Doc. 00-10977 Filed 5-2-00; 8:45 am]

BILLING CODE 4163-18-P